DEPARTMENT OF ENERGY

Federal Energy Regulatory Commission

[Docket No. RP04-214-000]

Cross Timbers Energy Services, Inc.; Complainant v. Transwestern Pipeline Company; Respondent; Notice of Complaint

March 12, 2004.

Take notice that on March 11, 2004, Cross Timbers Energy Services, Inc. (Cross Timbers) pursuant to rule 206 of practice and procedure of the Federal Energy Regulatory Commission, 18 CFR 385.206 (2003), filed a Complaint against Transwestern Pipeline Company (Transwestern).

Cross Timbers alleges that Transwestern violated Commission policy, Section 5 of the Natural Gas Act (NGA) 15 U.S.C. 717d, and the Commission's regulations applicable to open-access transportation of natural gas, 18 CFR part 284, by charging Cross Timbers maximum firm transportation reservation charges for the month of May 2003 effectively converting Cross Timbers' firm service into interruptible service. Commission policy requires interstate pipelines to provide firm shippers with reservation charge credits during times of scheduled maintenance. Section 3.2 of Transwestern's FTS-1 Rate Schedule is inconsistent with this Commission policy.

Cross Timbers requests that the Commission order Transwestern, pursuant to section 16 of NGS, 15 U.S.C. 717o, to make a monetary payment or provide billing adjustments or credits to Cross Timbers to prevent Transwestern's unjust enrichment. Cross Timbers also asks the Commission to require Transwestern to conform its tariff to Commission policy.

Any person desiring to be heard or to protest this filing should file with the Federal Energy Regulatory Commission, 888 First Street, NE., Washington, DC 20426, in accordance with rules 211 and 214 of the Commission's rules of practice and procedure (18 CFR 385.211 and 385.214). Protests will be considered by the Commission in determining the appropriate action to be taken, but will not serve to make protestants parties to the proceeding. Any person wishing to become a party must file a motion to intervene. The answer to the complaint and all comments, interventions or protests must be filed on or before the comment date. This filing is available for review at the Commission in the Public Reference Room or may be viewed on the Commission's Web site at http://www.ferc.gov using the “eLibrary” link. Enter the docket number excluding the last three digits in the docket number field to access the document. For assistance, please contact FERC Online Support at FERCOnlineSupport@ferc.gov or toll-free at (866) 208-3676, or for TTY, contact (202) 502-8659. The answer to the complaint, comments, protests and interventions may be filed electronically via the Internet in lieu of paper; see 18 CFR 385.2001(a)(1)(iii) and the instructions on the Commission's Web site under the “e-Filing” link. The Commission strongly encourages electronic filings.

Comment Date: April 1, 2004.

Linda Mitry,
Acting Secretary.

[FR Doc. E4-611 Filed 3-17-04; 8:45 am]

BILLING CODE 6717-01-P